DEPARTMENT OF THE INTERIOR

Fish and Wildlife Service

50 CFR Part 17

Endangered and Threatened Wildlife and Plants; Input on Additional Manatee Protection Measures

AGENCY: Fish and Wildlife Service, Interior.

ACTION: Notice of request for input on additional measures to protect manatees and further recovery of the species.

SUMMARY: We, the Fish and Wildlife Service, are seeking input and soliciting comments on additional measures to protect the endangered West Indian manatee (Trichechus manatus) in Florida and further recovery of the species. Specifically, as part of this request, we are seeking information or suggestions that would help us identify additional protection areas; locations that would be appropriate for increased law enforcement efforts; locations where the existing speed zone signage can be improved; how we can effectively increase boater education and outreach; where and when this education and outreach should be directed; factors that should or should not be considered to improve our boating facility site reviews; and other activities that we should undertake or modify or cease to protect the manatee in Florida.

DATES: We must receive your comments regarding this request for information on or before February 6, 2003.

ADDRESSES: Submit written comments to the Field Supervisor, Jacksonville Field Office, U.S. Fish and Wildlife Service, 6620 Southpoint Drive, South, Suite 310, Jacksonville, Florida 32216 or via electronic mail to manatee@fws.gov.

Comments and materials received in response to this request will be available for public inspection at this address during normal working hours from 8 a.m. to 4:30 p.m., Monday through Friday.

FOR FURTHER INFORMATION CONTACT: Peter Benjamin (see ADDRESSES section) at telephone 904/232-2580, extension 106; facsimile 904/232-2404; or electronic mail manatee@fws.gov.

SUPPLEMENTARY INFORMATION: We are soliciting comments for additional measures to protect manatees. The designation of manatee protection areas is just one of the tools available to us to protect manatees and further manatee recovery to meet our responsibilities under the Endangered Species Act of 1973, as amended (16 U.S.C. 1531 et seq.), and the Marine Mammal Protection Act of 1972, as amended (MMPA) (16 U.S.C. 1361-1407). With respect to waterborne activities, the tools we currently use include: designation of manatee protection areas; increased law enforcement efforts; improvement of current speed zone signage; boater education and outreach; and boating facility site reviews. We are also working with our Manatee Recovery Team (Recovery Team) and our Habitat Working Group (HWG) to identify and implement manatee conservation activities that will protect manatees and enhance their recovery. We hope that information and suggestions received in response to this request, together with the work generated by the Recovery Team and the HWG, will allow us to more effectively focus our limited resources to protect manatees and further recovery of the species.

During this comment period, we may also conduct public meetings, if requested, to ensure full public participation to develop additional measures to protect manatees. Once the comment period is closed, we will host a meeting of the Recovery Team so it can review the information submitted pursuant to this notice, and to discuss, evaluate and recommend to the Service additional protection measures and habitat protection needs to help ensure the recovery of the manatee.

We propose to hold additional Recovery Team meetings to assist us in identifying additional manatee protection measures, and developing an implementation plan and schedule to carry out these measures. The Recovery Team will be asked to consider the public comments and suggestions obtained through this notice, as well as the recovery needs of the species identified in the final recovery plan, the assessment of the habitat recovery criteria developed by the HWG, the final determinations by the Florida Fish and Wildlife Conservation Commission (FWCC) and us in establishing additional protection areas, the FWCC's Caloosahatchee River study, the species status reviews conducted by both the FWCC and us, and the most up-to-date manatee population model outputs. The benefits of the Recovery Team's assessment of these data and the Team's recommendation will aid us in formulating additional protection measures for possible implementation by State, Federal, county and private conservation entities. It will also ensure that the best science is being utilized to determine manatee protection needs.

In addition, the Service is also publishing in the Federal Register proposed incidental take regulations pursuant to the Marine Mammal Protection Act for public comment in November 2002. As a part of the MMPA regulatory process, we will request comments on the proposed mitigating measures we have identified that would be required in order for the Service to make a finding pursuant to the MMPA that the incidental take of manatees will have a negligible impact on the population. Many of the current measures being implemented to protect and recover manatees under the Endangered Species Act (e.g., increased law enforcement efforts, improvement of current speed zone signage, and boater education and outreach), may be the same or comparable to those that may be proposed under the MMPA incidental take regulations, and may be similar to comments or suggestions received from the public through this notice.

The public is encouraged to provide individual comments to both Service actions (this notice requesting input on additional protective measures that the Service could consider and the proposed MMPA incidental take regulations).

Public Comments Solicited

Persons wishing to provide relevant information and comments regarding this request for input on additional measures to protect manatees, should submit such comments in writing to the Jacksonville Field Office (see ADDRESSES section).

Our practice is to make comments we receive on this process, including names and home addresses of respondents, available for public review during regular business hours. Individual respondents may request that we withhold their home address from the process, which we will honor to the extent allowable by law. There also may be circumstances in which we would withhold a respondent's identity from the process, as allowable by law. If you wish us to withhold your name and/or address, you must state this prominently at the beginning of your comments. However, we will not consider anonymous comments. We will make all submissions from organizations or businesses, and from individuals identifying themselves as representatives or officials of organizations or businesses, available for public inspection in their entirety.

Author

The primary author of this document is Peter Benjamin (see ADDRESSES section).

Authority

The authority to establish manatee protection areas is provided by the Endangered Species Act of 1973, as amended (16 U.S.C. 1531 et seq.), and the Marine Mammal Protection Act of 1972 (16 U.S.C. 1361-1407), as amended.

Dated: October 31, 2002.
Paul Hoffman,
Acting Assistant Secretary for Fish and Wildlife and Parks.

[FR Doc. 02-28279 Filed 11-5-02; 9:57 am]

BILLING CODE 4310-55-P